DEPARTMENT OF AGRICULTURE

Forest Service

Black Hills National Forest, Mystic Ranger District, SD, Mystic Range Project

AGENCY: Forest Service, USDA.

ACTION: Notice of intent to prepare an environmental impact statement.

SUMMARY: The Forest Service will prepare an environmental impact statement on a proposal to evaluate grazing on eight (8) allotments on the Black Hills National Forest, Mystic Ranger District comprising approximately 85,055 acres within the constraints of the Black Hills National Forest Land and Resource Management Plan, as amended.

DATES: Comments concerning the scope of analysis must be received by July 13, 2009. The draft environmental impact statement is expected September 2009 and the final environmental impact statement is expected December 2009.

ADDRESSES: Send written comments to Robert J. Thompson, District Ranger, Black Hills National Forest, Mystic Ranger District, Mystic Range Project, 8221 South Highway 16, Rapid City, South Dakota 57702. Comments may also be sent via e-mail to comments-rocky-mountain-black-hills-mystic@fs.fed.us, or via facsimile to (605) 343-7134. Please list “Mystic Range” as the subject on comments sent via e-mail or facsimile. Electronic comments must be readable in Word, Rich Text, or PDF formats.

It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will be part of the public record for this proposed action. Comments submitted anonymously will be accepted and considered; however, anonymous comments will not provide the respondent with standing to participate in subsequent administrative review or judicial review.

FOR FURTHER INFORMATION CONTACT: If you have any questions or need additional information, please contact Mark Vedder, Range Specialist; Katie Van Alstyne, Team Leader; or Robert J. Thompson, District Ranger, at the Mystic Ranger District office in Rapid City at (605) 343-1567.

Individiuals who use telecommunication devices for the deaf (TDD) may call the Federal Information Relay Service (FIRS) at 1-800-877-8330 between 8 a.m. and 8 p.m., Eastern Time, Monday through Friday.

Purpose and Need for Action

The purpose of this project is to authorize livestock grazing on all or part of the project area and to ensure that livestock grazing occurs in an enviromentally acceptable manner. The EIS will determine current conditions, analyze environmental consequences of grazing mangement actions on those conditions, and assist the decisionmaker in selecting mangement/monitoring strategies consistent with meeting desired conditions in the Forest Plan.

The underlying needs for this proposal include:

• Improve livestock management so that it is consistent with the goals, objectives, standards, and guidelines of the Forest Plan, as amended.

• Improve species composition of upland vegetation.

• Improve streambank stability.

• Improve riparian vegetation diversity and abundance.

• Reduce opportunities for cattle conflicts with vehicle traffic.

SUPPLEMENTARY INFORMATION:

Proposed Action

The Proposed Action is designed to maintain or improve resource conditions in rangeland health, vegetation, watershed conditions, designated Botanical Areas, and wildlife habitat relative to livestock grazing. Some grazing practices would be changed to resolve grazing related issues. Proposed range improvements include water developments, fencing (for highway, pasture/allotment boundary, and/or riparian exclosure purposes), cattleguards, corrals, stream restoration structures, and construct, bury new and/or existing pipeline. It provides for a range of alternate actions that may be selected from to achieve desired conditions in an acceptable timeframe. This approach is known as “Adaptive Management.” Some grazing practices would be changed to resolve grazing related resource issues.

Successful Adaptive Management requires timely monitoring of resource conditions and trends. The Proposed Action also includes a monitoring plan for each allotment designed to focus on specific areas with livestock related resource problems. If monitoring results indicate that resource problems persist, adaptive management options are identified that would be implemented in cooperation with each permittee to effect improvement in resource conditions.

Possible Alternatives

The Current Management Alternative would not change existing permitted livestock grazing. The No Grazing Alternative would eliminate any livestock grazing on the project area.

Responsible Official

Robert J. Thompson, District Ranger, Mystic Ranger District, Black Hills National Forest, 8221 South Highway 16, Rapid City, SD 57702.

Nature of Decision To Be Made

The decision to be made is whether to continue to permit livestock grazing on all, part, or none of these allotments and, if so, under what terms and conditions to ensure that desired condition objectives are met, or that movement occurs toward those objectives.

Preliminary Issues

Anticipated issues include: Support and opposition to livestock grazing; impacts of livestock grazing on wildlife habitat, riparian areas, and streambank stability.

Scoping Process

This notice of intent initiates the scoping process, which guides the development of the environmental impact statement. Comments and input regarding the proposal will be received via direct mailing from the public, other groups, and agencies during the initial public comment period in June of 2009. Comments submitted based on this NOI will be most useful if received within 30 days from the date of this notice. Response to the Draft EIS will be sought from the interested public beginning in August 2009.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: June 4, 2009.
Craig Bobzien,
Forest Supervisor, Black Hills National Forest.

[FR Doc. E9-13690 Filed 6-11-09; 8:45 am]

BILLING CODE 3410-11-M